DEPARTMENT OF AGRICULTURE

Forest Service

Catron County Resource Advisory Committee

AGENCY: Forest Service, USDA.

ACTION: Notice of meeting.

SUMMARY: The Catron County Resource Advisory Committee (RAC) will meet in Reserve, New Mexico, on March 16, 2004, at 10 a.m. MST. The purpose of the meeting is to evaluate submitted projects and select projects for recommendation to be funded under Title II of the Secure Rural Schools and Community Self-Determination Act (Pub. L. 106-393), also called the “Payments to States Act.”

DATES: The meeting will be held March 16, 2004.

ADDRESSES: The meeting will be held at the Catron County Courtroom of the Catron County Court House, 101 Main Street, Reserve, New Mexico, 87830. Send written comments to Michael Gardner, Catron County Resource Advisory Committee, c/o Forest Service, USDA, 3005 E. Camino del Bosque, Silver City, New Mexico, 88061-7863 or electronically to mgardner01@fs.fed.us.

FOR FURTHER INFORMATION CONTACT: Michael Gardner, Rural Community Assistant Staff, Gila National Forest, (505) 388-8212, or Janet Porter, Catron County RAC Chairperson, at (505) 533-6384 or ctreasur@gilanet.com.

SUPPLEMENTARY INFORMATION: The meeting is open to the public. Committee discussion is limited to Forest Service staff and Committee members unless provided for on the agenda. However, persons who wish to bring Public Law 106-393 related matters to the attention of the Committee may file written statements with the Committee Staff before or after the meeting. Public input sessions will be provided and individuals may address the committee at times provided on the agenda in the morning and afternoon. To be considered at the March 16, 2004, RAC meeting, the project proposals must be submitted to Michael Gardner or Janet Porter, Catron County RAC Chairperson, by March 9, 2004, to enable distribution to all RAC members. Send written comments to Michael Gardner at Forest Service, USDA, 3005 E. Camino del Bosque, Silver City, New Mexico, 88061-7863, or to Janet Porter at P.O. Box 407, Reserve, NM, 87830.

Dated: February 20, 2004.
Delbert J. Griego,
Acting Forest Supervisor, Gila National Forest.

[FR Doc. 04-4239 Filed 2-25-04; 8:45 am]

BILLING CODE 3410-11-M